DEPARTMENT OF ENERGY

Federal Energy Regulatory Commission

[Docket No. RP01-387-000]

Texas Eastern Transmission Corporation; Notice of Technical Conference

June 8, 2001.

In the Commission's order issued on May 25, 2001,¹ the Commission directed that a technical conference be held to address issues raised by the filing.

¹ Texas Eastern Transmission Corporation, 95 FERC ¶ 61,267 (2001).

Take notice that the technical conference will be held on Thursday, July 12, 2001, at 9 a.m., in a room to be designated, at the offices of the Federal Energy Regulatory Commission, 888 First Street, NE., Washington, DC 20426.

All interested parties and Staff are permitted to attend.

David P. Boergers,
Secretary.

[FR Doc. 01-14995 Filed 6-13-01; 8:45 am]

BILLING CODE 6717-01-M